DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA or Agency).

Title: Requirements for Approved Construction Investments.

OMB Control Number: 0610-0096.

Form Number(s): None.

Type of Request: Regular submission (revision and extension of a currently approved information collection).

Number of Respondents: 3,500.

Average Hours per Response: 2 hours.

Burden Hours: 7,000 hours.

Type of submission | Number of submissions | Hours per submission | Total estimated hours
500 open construction grants | 7 submissions/year | 2 | 7,000 hours/year.

Needs and Uses: EDA may award assistance for construction projects through its Public Works and Economic Adjustment Assistance (EAA) Programs. Public Works Program investments help support the construction or rehabilitation of essential public infrastructure and facilities necessary to generate or retain private sector jobs and investments, attract private sector capital, and promote vibrant economic ecosystems, regional competitiveness, and innovation. The EAA Program provides a wide range of technical, planning, and infrastructure assistance in regions experiencing adverse economic changes that may occur suddenly or over time.

EDA is seeking an extension of the series of checklists and templates (formerly referred to as the “bluebook”) that constitute EDA's post-approval construction tools and the Standard Terms and Conditions for Construction Projects. These checklists and templates, as well as any special conditions incorporated into the terms and conditions at the time of award, supplement the requirements that apply to EDA-funded construction projects.

Affected Public: Current recipients of EDA construction (Public Works or Economic Assistance Adjustment) awards, to include (1) cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Frequency: Some are one time only and others are periodic.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-18631 Filed 8-28-18; 8:45 am]

BILLING CODE 3510-34-P